ENVIRONMENTAL PROTECTION AGENCY

[FRL-9295-5]

National Environmental Justice Advisory Council; Notification of Public Meeting and Public Comment

AGENCY: Environmental Protection Agency.

ACTION: Notification of public meeting.

SUMMARY: Pursuant to the Federal Advisory Committee Act (FACA), Public Law 92-463, the U.S. Environmental Protection Agency (EPA) hereby provides notice that the National Environmental Justice Advisory Council (NEJAC) will meet on the dates and times described below. All meetings are open to the public. Members of the public are encouraged to provide comments relevant to the specific issues being considered by the NEJAC. For additional information about registering for public comment, please see SUPPLEMENTARY INFORMATION. Due to limited space, seating at the NEJAC meeting will be on a first-come, first-served basis.

DATES: The NEJAC meeting will convene Tuesday, May 10, from 9 a.m. until 7 p.m., and reconvene Wednesday, May 11, 2011, from 9 a.m. to 7 p.m., and Thursday, May 12, 2011, from 9 a.m. to 2 p.m. All noted times are Eastern Time.

Two public comment sessions relevant to the specific issues being considered by the NEJAC (see SUPPLEMENTARY INFORMATION) are scheduled for Tuesday, May 10, 2011, from 3:30 p.m. to 7 p.m. and Wednesday, May 11, 2011, from 3:30 p.m. to 7 p.m. All noted times are Eastern Time. The Tuesday, May 10, 2011, public comment period will be for the NEJAC to receive feedback on where it should focus its advisory attention for the implementation plans associated with Plan EJ 2014. Recently EPA began a comprehensive effort to enhance its Agency-wide integration of environmental justice by developing Plan EJ 2014. The plan is intended to go beyond current EJ related efforts (such as the EJ Small Grants, Brownfields Redevelopment, the CARE Program, EJ Showcase Communities, and the Urban Waters Initiative, to name a few) and instead focus on new efforts. The Wednesday, May 11, 2011, public comment period will have a general comment theme. Members of the public who wish to participate during the public comment periods are highly encouraged to pre-register by 12 p.m. Eastern Time, Thursday, April 20, 2011.

ADDRESSES: The NEJAC meeting will be held at the New York Marriot at the Brooklyn Bridge, 333 Adams Street, Brooklyn, New York 11201. TELEPHONE: 718-246-7000, FAX: 718-246-0563 or TOLL FREE: 1-800-228-9290.

FOR FURTHER INFORMATION CONTACT: Questions concerning the meeting should be directed to Mr. Aaron Bell, U.S. Environmental Protection Agency, 1200 Pennsylvania Avenue, NW. (MC2201A), Washington, DC, 20460; by telephone at 202-564-1044, via e-mail at Bell.Aaron@epa.gov; or by FAX at 202-501-0936. Additional information about the meeting is available at the following Web site address: http://www.epa.gov/compliance/environmentaljustice/nejac/meetings.html.

Registration is encouraged for all participants. Pre-registration by noon Thursday, April 20, 2011 for all attendees is highly recommended. To register online, visit the Web site address above. Requests for pre-registration forms should be faxed to Ms. Estela Rosas, EPA Contractor, APEX Direct, Inc., at 877-773-0779 or e-mailed to Meetings@AlwaysPursuingExcellence.com. Please remember to specify which meeting you are registering to attend (e.g., NEJAC May 2011). Please also state whether you would like to be put on the list to provide public comment, and whether you are submitting written comments before the April 20, 2011 deadline. Non-English speaking attendees wishing to arrange for a foreign language interpreter may make appropriate arrangements in writing using the above fax number.

SUPPLEMENTARY INFORMATION: The Charter of the NEJAC states that the advisory committee shall provide independent advice to the EPA Administrator on areas that may include, among other things, “advice about broad, cross-cutting issues related to environmental justice, including environment-related strategic, scientific, technological, regulatory, and economic issues related to environmental justice.”

The meeting shall be used to receive comments, and discuss and provide recommendations regarding these primary areas: (1) EPA's Plan EJ 2014 implementation plans, including Science Tools and Enforcement and Compliance; (2) dialogue with Regional Administrator; (3) coastal ecosystem restoration recommendations; and (4) local government priorities for environmental justice.

A. Public Comment: Individuals or groups making oral presentations during the public comment periods will be limited to a total time of five minutes. To accommodate the large number of people who want to address the NEJAC, only one representative of a community, organization, or group will be allowed to speak. The suggested format for written public comments is as follows: Name of Speaker; Name of Organization/Community; City and State; E-mail address; and a brief description of the concern and what you want the NEJAC to advise EPA to do. Written comments received by noon Thursday, April 20, 2011, will be included in the materials distributed to the members of the NEJAC. Written comments received after that date and time will be provided to the NEJAC as time allows. All information should be sent to the address, e-mail, or fax number listed in the FOR FURTHER INFORMATION, CONTACT section above.

B. Information about Services for Individuals with Disabilities: For information about access or services for individuals with disabilities, please contact Ms. Estela Rosas, EPA Contractor, APEX Direct, Inc., at 877-773-0779 or Meetings@AlwaysPursuingExcellence.com. To request special accommodations for a disability, please contact Ms. Rosas at least 7 working days prior to the meeting, to give EPA sufficient time to process your request. All other requests specifically related to the meeting should be sent to the address, E-MAIL, or FAX number listed in the FOR FURTHER INFORMATION, CONTACT section above.

Dated: April 7, 2011.
Victoria J. Robinson,
Designated Federal Officer, National Environmental Justice Advisory Council.

[FR Doc. 2011-8875 Filed 4-12-11; 8:45 am]

BILLING CODE 6560-50-P